DEPARTMENT OF TRANSPORTATION

Federal Aviation Administration

14 CFR Part 71

[Docket No. FAA-2018-0896; Airspace Docket No. 18-ANM-14]

RIN 2120-AA66

Amendment of Class D Airspace; Lewiston, ID

AGENCY: Federal Aviation Administration (FAA), DOT.

ACTION: Final rule, technical amendment.

SUMMARY: This action amends Class D airspace at Lewiston-Nez Perce County Airport, Lewiston, ID, by increasing the upward extension of Class D airspace from 2,700 feet MSL to 3,900 feet MSL. The upward extension was incorrectly lowered in the final rule published March 15, 2018.

DATES: Effective 0901 UTC, November 8, 2018. The Director of the Federal Register approves this incorporation by reference action under title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Tom Clark, Operations Support Group, Western Service Center, Federal Aviation Administration, 2200 S 216th St., Des Moines, WA 98198-6547; telephone (206) 231-2253.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D airspace at Lewiston-Nez Perce County Airport, Lewiston, ID to support IFR operations at the airport.

History

The FAA published a final rule in the Federal Register (83 FR 11411; March 15, 2018) for Docket No. FAA-2017-0986 amending Class D airspace, and Class E surface airspace at Lewiston-Nez Perce County Airport, Lewiston, ID.

Subsequent to publication, the FAA discovered the upward extension of Lewiston-Nez Perce County Airport Class D airspace was incorrectly reduced from 3,900 feet MSL to 2,700 feet MSL. This rule corrects that error and restores the upward extension of Class D airspace to 3,900 feet MSL.

Class D airspace designations are published in paragraph 5000 of FAA Order 7400.11C dated August 13, 2018, and effective September 15, 2018, which is incorporated by reference in 14 CFR part 71.1. The Class D airspace designation listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This action amends Title 14 Code of Federal Regulations (14 CFR) part 71 by modifying the Class D airspace legal description for Lewiston-Nez Perce County Airport, Lewiston, ID. The Class D airspace is retained up to 3,900 feet MSL, not 2,750 feet MSL, as stated in a final rule published in the Federal Register of March 15, 2018 (83 FR 11411).

Accordingly, action taken herein to amend the upward extension of Class D airspace at Lewiston-Nez Perce County Airport, Lewiston, ID, is in the interest of flight safety. Therefore, I find that notice and public procedure under 5 U.S.C. 553(b) are impracticable and contrary to the public interest.

Regulatory Notices and Analyses

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11C, Airspace Designations and Reporting Points, dated August 13, 2018, effective September 15, 2018, is amended as follows:

Paragraph 5000 Class D Airspace.

* * * * *

ANM ID D Lewiston, ID [Amended]

Lewiston-Nez Perce County Airport, ID

(Lat. 46°22′28″ N, long. 117°00′55″ W)

That airspace extending upward from the surface to and including 3,900 feet MSL within a 4.1-mile radius from Lewiston-Nez Perce County Airport clockwise from the airport 290° bearing to the 066° bearing, and within a 5.1-mile radius of the airport from the 066° bearing to the airport 115° bearing and within a 6.6-mile radius of the airport from the 115° bearing to the airport 164° bearing, and within a 4.1-mile radius of the airport from the airport 164° bearing to the airport 230° bearing, and within a 6.6-mile radius of the airport from the 230° bearing to the airport 290° bearing. This Class D airspace area is effective during the specific dates and times established in advance by a Notice to Airmen. The effective date and time will thereafter be continuously published in the Chart Supplement.

Issued in Seattle, Washington, on September 28, 2018.
Stephanie Harris,
Acting Manager, Operations Support Group, Western Service Center.

[FR Doc. 2018-21660 Filed 10-4-18; 8:45 am]

BILLING CODE 4910-13-P